DEPARTMENT OF DEFENSE

Department of the Air Force

Notice of Intent (NOI) To Prepare an Environmental Impact Statement (EIS) for the New Mexico Training Range Initiative (NMTRI)

AGENCY: Air Combat Command, United States Air Force, DoD.

ACTION: Notice of intent.

SUMMARY: Pursuant to the National Environmental Policy Act (NEPA) of 1969, as amended (42 U.S.C. 4321, et seq.), the Council on Environmental Quality (CEQ) Regulations for Implementing the Procedural Provisions of NEPA (40 CFR parts 1500-1508), and Air Force policy and procedures (32 CFR part 989), the Air Force is issuing this notice to advise the public of its intent to prepare an EIS to assess the potential environmental impacts of a proposal known as the New Mexico Training Range Initiative (NMTRI).

The NMTRI proposal consists of three elements: creation and modification of training airspace, authorization for supersonic operations in Cannon Air Force Base's centrally located training airspace and use of chaff and flares in the new and modified training airspace. The purpose of the NMTRI is to provide more effective and realistic training conditions for the current airframes and munitions of the 27th FW and the New Mexico Air National Guard. In addition to the proposed action, two other alternatives and the no-action alternative, will be analyzed in the EIS.

The Air Force will conduct a series of scoping meetings to solicit public input concerning the proposal. The scoping process will help identify issues to be addressed in the environmental analysis. In addition to the comments received at the scoping meetings, written comments on the scope of the EIS will be accepted by the Air Force at the address below through Feb. 24, 2004. The Air Force will accept relevant comments at any time during the environmental analysis process.

Notices will also be made in local areas of concern. Scoping meetings will be held at the following locations:

Portales, NM, January 26, 2004, 6-8 p.m., Becky Sharpe Auditorium, Eastern New Mexico University College of Business;

Fort Sumner, NM, January 27, 2004, 6-8 p.m., Community Services Bldg., 514 Avenue C;

Vaughn, NM, January 28, 2004, 4-6 p.m., Vaughn Elementary Multi-Purpose Bldg., 101 East 4th Street;

Roswell, NM, January 29, 2004, 6-8 p.m., Goddard High School, 701 E. Country Club Rd.

Point of Contact: Please direct any written comments or requests for information to Ms. Brenda W. Cook, HQ ACC/CEVP, 129 Andrews St., Suite 102, Langley AFB, VA 23665-2769, (757) 764-9339.

Pamela Fitzgerald,
Air Force Federal Register Liaison Officer.

[FR Doc. 03-32015 Filed 12-30-03; 8:45 am]

BILLING CODE 5001-05-P